DEPARTMENT OF HOMELAND SECURITY

Coast Guard

33 CFR Subchapter S

[Docket No. USCG-2011-0497]

RIN 1625-AB73

Recreational Vessel Propeller Strike and Carbon Monoxide Poisoning Casualty Prevention

AGENCY: Coast Guard, DHS.

ACTION: Advance notice of proposed rulemaking.

SUMMARY: The Coast Guard seeks public input on how best to prevent recreational boating casualties caused by propeller strikes and carbon monoxide (CO) poisoning. The Coast Guard, in particular, seeks comments on specific measures to protect recreational boaters in the water near the stern of a recreational vessel. The Coast Guard also seeks additional ideas, specific data, and other facts relating to propeller strike and CO poisoning-related casualties to help guide the Coast Guard in selecting the best course of action to address these issues.

DATES: Comments and related material must either be submitted to our online docket via http://www.regulations.gov on or before November 25, 2011 or reach the Docket Management Facility by that date.

ADDRESSES: You may submit comments identified by docket number USCG-2011-0497 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this advanced notice of proposed rulemaking, call or e-mail Jeff Ludwig, Coast Guard; telephone 202-372-1061, e-mail Jeffrey.A.Ludwig@uscg.mil. If you have questions on viewing or submitting material to the docket, call Renee V. Wright, Program Manager, Docket Operations, telephone 202-366-9826.

SUPPLEMENTARY INFORMATION:

Table of Contents for Preamble

I. Public Participation and Request for Comments

A. Submitting Comments

B. Viewing Comments and Documents

C. Privacy Act

D. Public Meeting

II. Abbreviations

III. Background

A. Propeller Strike-Related Casualties

B. CO Poisoning-Related Casualties

IV. Information Requested

A. General Questions Regarding Measures To Address Propeller Strike-Related and CO Poisoning-Related Casualties

B. Specific Measures To Address Propeller Strike-Related and CO Poisoning-Related Casualties

C. Specific Information Sought

I. Public Participation and Request for Comments

We encourage you to respond to this advance notice of proposed rulemaking by submitting comments and related materials. All comments received will be posted, without change, to http://www.regulations.gov and will include any personal information you have provided.

A. Submitting Comments

If you submit a comment, please include the docket number for this rulemaking (USCG-2011-0497), indicate the specific section of this document to which each comment applies, and provide a reason for each suggestion or recommendation. You may submit your comments and material online or by fax, mail or hand delivery, but please use only one of these means. We recommend that you include your name and a mailing address, an e-mail address, or a telephone number in the body of your document so that we can contact you if we have questions regarding your submission.

To submit your comment online, go to http://www.regulations.gov and type “USCG-2011-0497” in the “Keyword” box. If you submit your comments by mail or hand delivery, submit them in an unbound format, no larger than 8½ by 11 inches, suitable for copying and electronic filing. If you submit comments by mail and would like to know that they reached the Facility, please enclose a stamped, self-addressed postcard or envelope. We will consider all comments and material received during the comment period.

B. Viewing Comments and Documents

To view comments, as well as documents mentioned in this preamble as being available in the docket, go to http://www.regulations.gov and click on the “Read Comments” box, which will then become highlighted in blue. In the “Keyword” box type “USCG-2011-0497” and click “Search.” Click the “Open Docket Folder” in the “Actions” column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

C. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

D. Public Meeting

We do not now plan to hold a public meeting. However, you may submit a public meeting request to the docket using one of the methods specified under ADDRESSES. In your request, explain why you believe a public meeting would be beneficial. If we determine that holding a public meeting would aid us in determining how best to prevent recreational boating casualties caused by propeller strikes and carbon monoxide (CO) poisoning, we will hold a meeting at a time and place announced by a later notice in the Federal Register.

II. Abbreviations

ABYC American Boat and Yacht Council

CO Carbon monoxide

DHS Department of Homeland Security

ECOS Engine cut-off switches

EPA Environmental Protection Agency

FR Federal Register

NBSAC National Boating Safety Advisory Committee

NASBLA National Association of State Boating Law Administrators

NIOSH National Institute for Occupational Safety and Health

§ Section symbol

U.S.C. United States Code

III. Background

In a recent five year period, approximately 82.1 million people annually participated in recreational boating as an outdoor recreation activity in the United States.¹ Of that population, approximately 53.8 million people enjoyed recreational boating on a motorized recreational vessel. Unfortunately, motorized recreational boating poses risks, including property damage, human injury, and even death. One of these risks is boating casualties caused by persons being struck by a recreational vessel propeller. An additional, more recently discovered risk is boating casualties caused by carbon monoxide (CO) poisoning. The Coast Guard is interested in measures to reduce these two specific risks, both of which involve persons near the rear of a motorized recreational vessel.

¹ H. Ken Cordell et al., Long-Term National Trends in Outdoor Recreation Activity Participation—1980 to Now, May 2009 (A Recreation Research Report in the Internet Research Information Series), available at http://warnell.forestry.uga.edu/nrrt/nsre/IRISRec/IRISRec12rpt.pdf. This number represents the estimated number of people, operators and passengers who participated in recreational boating in 2005-2009.

Under 46 U.S.C. chapter 43 (Recreational Vessels), the Secretary of the Department of Homeland Security is responsible for establishing minimum safety standards for recreational vessels and associated equipment, and for requiring installation, carrying, or use of associated equipment. See 46 U.S.C. 4302(a). The Coast Guard, on behalf of the Secretary, carries out this responsibility.

Propeller Strike-Related Casualties

Since the mid-1990s, the Coast Guard has investigated the appropriate course of action to address propeller strike-related casualties, to understand the causes of these casualties, and to determine the best way to prevent casualties from occurring. The Coast Guard has solicited requests for comments on various proposals to reduce propeller strike-related casualties, and proposed and then withdrew two separate rulemakings addressing this issue. The first rulemaking sought public input on the use of swimming ladders, warning notices, clear aft vision, propeller-shaft engagement alarms, engine cut-off switches, and education to address recreational vessel and propeller strike-related casualties. See 60 FR 25191 (May 11, 1995) (Request for comments); 61 FR 13123 (Mar. 26, 1996) (Advance Notice of Proposed Rulemaking); 62 FR 22991 (Apr. 28, 1997) (Request for comments). The Coast Guard withdrew this rulemaking because of a lack of sufficient data for the proposals at that time. See 66 FR 63650 (Dec. 10, 2001) (Notice of Withdrawal).

At the same time the Coast Guard withdrew the first rulemaking, it initiated the second rulemaking, which focused on propeller injury mitigation devices commonly referred to as “propeller guards.” The notice of proposed rulemaking proposed requiring owners of certain recreational houseboats to either install a propeller guard or to use all of the following propeller injury avoidance measures: a swim ladder interlock, an aft visibility device, and an engine cut-off switch. See 66 FR 63645 (Dec. 10, 2001). The Coast Guard withdrew this rulemaking after public comments raised several issues, including the lack of a practical definition of a houseboat and straightforward performance requirements, and the potential costs of installing propeller guards. See 72 FR 59064 (Oct. 18, 2007) (Notice of Withdrawal). In the Notice of Withdrawal, the Coast Guard stated that it is still “exploring options that would more effectively prevent propeller injuries and impose a smaller burden on the economy,” and specifically noted engine cut-off switches and boating safety education as two of those options. Id. at 59065.

In 2006, the National Boating Safety Advisory Council (NBSAC) established a Propeller Injury Working Group to consider the development of educational formats, review of technologies, risk management techniques, accident scenarios, cost benefit analysis, and high-risk recreational vessel definitions and determinations. See NBSAC Resolution # 2005-76-04, available at http://homeport.uscg.mil/NBSAC. The working group proposed four recommendations: (1) Develop a rental vessel education kit, (2) require the installation of engine cut-off switches, (3) require operators to use installed engine cut-off switches, and (4) require operators of vessels to shut off the engine when individuals in the water are within an unsafe distance from the vessel. NBSAC endorsed these recommendations and forwarded them to the Coast Guard for further consideration. See NBSAC Resolution ## 2006-77-01, 2006-77-02, 2006-77-03 and 2006-77-04, available at http://homeport.uscg.mil/NBSAC.

To address NSBAC's second and third recommendations (NBSAC Resolution ## 2006-77-02 and 2006-77-03) involving the installation, maintenance, and use of engine cut-off switches ² and to follow-up on the discussion of engine cut-off switches in the Notice of Withdrawal of the propeller guard rulemaking, the Coast Guard initiated a separate rulemaking titled “Installation and Use of Engine Cut-Off Switches” (ECOS) (RIN 1625-AB34). In the ECOS rulemaking, the Coast Guard seeks to prevent recreational boating casualties caused by persons being struck by a recreational vessel or propeller when the vessel operator is separated from the operating controls (e.g., falls overboard or is ejected). The ECOS rulemaking, however, only addresses one cause of propeller-strikes. Recreational boaters in the water near the rear of a recreational vessel also face the possibility of being inadvertently struck by a vessel's propeller even when the vessel operator is in control of the vessel.

² In response to the first recommendation (NBSAC Resolution # 2006-77-01), the Coast Guard developed a rental education kit, which is now available to vessel liveries through the following Web site: http://rentalboatsafety.com/participate.php.

The Coast Guard is initiating this rulemaking to seek public input on NSBAC's fourth recommendation in NBSAC Resolution # 2006-77-04, as well as other options to prevent casualties caused when persons in the water near the rear of a recreational vessel are inadvertently struck by a vessel's propeller. For example, a person may be struck by a propeller when using the lower unit of the recreational vessel's propulsion system as a step to reboard the vessel. If the propeller is spinning while a person is attempting to use the lower unit as a step, the person may either step directly onto the spinning propeller or slip off the lower unit of the propulsion system and fall onto the spinning propeller resulting in severe injuries and possibly death.

CO Poisoning-Related Casualties

Over the last decade, boating-related activities that require participants to be near the rear of a recreational vessel in close proximity to a vessel's engine exhaust emissions have increased in popularity. With an increase in the prevalence of these activities, casualties associated with these activities have also increased, and investigations of these casualties have led to an increased understanding of CO concentrations near the rear of recreational vessels.

A potentially deadly gas that is odorless, colorless, and tasteless, CO occurs as a component of internal combustion engine exhaust. When inhaled, CO enters the bloodstream through the lungs and displaces the oxygen needed by the body, resulting in hypoxia (suffocation) of body tissues.

In 2000, the National Park Service, in coordination with the National Institute for Occupational Safety and Health (NIOSH) and the Coast Guard, initiated a study to evaluate CO exposure from generators and propulsion engines on houseboats.³ This study revealed high concentrations of CO on and around houseboats using gasoline-powered generators. In 2002, the National Park Service, NIOSH, and the Coast Guard began working to measure CO levels on other types of recreational vessels and to evaluate new engineering technologies designed to reduce CO poisonings related to the vessels' operation.

³ Department of Health and Human Services, Center for Disease Control, National Institute for Occupational Safety and Health, NIOSH Health Hazard Evaluation Report: HETA #2000-0400-2956, HETA # 2002-0325-2956, Glen Canyon National Recreation Area, Arizona and Utah (January 2005) available at http://www.cdc.gov/niosh/hhe/reports/pdfs/2000-0400-2956.pdf.

In 2008, the Environmental Protection Agency (EPA) promulgated exhaust emission standards for marine engines, including first-time EPA standards for sterndrive and inboard engines. See 73 FR 59034 (“Control of Emissions from Nonroad Spark-Ignition Engines and Equipment”). The EPA standards apply to new marine engines, and the Coast Guard expects these EPA standards to have a dramatic effect on the levels of CO in the exhaust emissions of new sterndrive and inboard engines and thus reduce CO levels on recreational vessels with such engines.

In response to the EPA standards, as well as to address CO poisoning-related casualties, manufacturers have developed new catalyst-based low CO sterndrive and inboard engines. These EPA standards and resulting new technology, however, apply only to newly manufactured engines, and do not affect potentially dangerous levels of CO on recreational vessels with older engines.

The National Association of State Boating Law Administrators (NASBLA), as well as some States, are also concerned with the issue of CO poisoning-related casualties, and efforts to address this issue cover both new as well as existing recreational engines by focusing on recreational vessel operation rather than on technology. NASBLA has been engaged in addressing this issue since 2003 and has developed a consensus model act prohibiting persons from operating any recreational vessel or having the engine idle while someone is in the water and holding onto the rear of the recreational vessel. See NASBLA Model Act for “Safe Practices for Boat-Towed Watersports” (September 10, 2007), available at http://nasbla.org/i4a/pages/index.cfm?pageid=3290. At least five States have enacted laws addressing CO poisoning-related casualties based on this model act.

• California and Washington have prohibited operating a recreational vessel or having the engine of the vessel idle while an individual is “teak surfing, platform dragging, or bodysurfing behind” ⁴ or “occupying or holding onto the swim platform, swim deck, swim step, or swim ladder of the vessel,” except “when an individual is occupying the swim platform, swim deck, swim step, or swim ladder for a very brief period of time while assisting with the docking or departure of the vessel, while exiting or entering the vessel, or while the vessel is engaged in law enforcement or emergency rescue activity.” See Cal. Harb. & Nav. Code § 681 (West); Wash. Rev. Code Ann. § 79A.60.660 (West).

⁴ “Teak surfing” or “platform dragging” means holding onto the swim platform, swim deck, swim step, swim ladder, or any portion of the exterior of the transom of a motor driven vessel for any amount of time while the motor driven vessel is underway at any speed. See Cal. Harb. & Nav. Code § 681(d) (West); Wash. Rev. Code Ann. § 79A.60.660(4) (West). “Bodysurfing” means swimming or floating on one's stomach or on one's back on or in the wake directly behind a motor driven vessel that is underway. See Cal. Harb. & Nav. Code § 681(e) (West); Wash. Rev. Code Ann. § 79A.60.660(5) (West).

• Nevada has prohibited operation of a recreational vessel while any person is hanging onto, or sitting, standing or riding on, a swim platform or a swim ladder that is attached to the vessel as a form of reckless or negligent operation of a vessel. See Nev. Rev. Stat. § 488.400; Nev. Admin. Code § 488.435.

• Oregon prohibits operating a recreational vessel or having the vessel's engine idle while any person holds onto or occupies any portion of the vessel located aft of the transom, including a step, ladder, platform or deck, in order to ride on that portion of the vessel while the vessel is under way at any speed or to be pulled by the vessel, except when assisting in the docking or departure of the vessel, exiting or entering the vessel, or engaging in law enforcement activities. See Or. Rev. Stat. § 830.362.

• Pennsylvania prohibits operation of a recreational vessel at any speed with a person or persons sitting, riding, or hanging on a swim platform or swim ladder attached to the vessel, except when launching, retrieving, docking or anchoring the vessel. See 58 Pa. Code § 105.3.

The Coast Guard is initiating this rulemaking to consider options to prevent CO poisoning-related casualties on all recreational vessels, especially existing recreational vessels that are not affected by the 2008 EPA exhaust emission standards or by new technology for marine engines.

IV. Information Requested

In addition to any general information, data, ideas, and comments that the public would like to provide, the Coast Guard requests comments on specific measures outlined below to prevent propeller strike-related and CO poisoning-related casualties. The Coast Guard also seeks specific information regarding certain data and other facts related to these measures, as listed below. Please provide as much quantitative data as possible, including data sources and complete citations.

A. General Questions Regarding Measures To Address Propeller Strike-Related and CO Poisoning-Related Casualties

When responding to the general questions below, please provide quantitative data on costs, benefits, and other relevant information, specifying sources of information and citations.

1. Recreational boating accidents can cause a variety of negative impacts, including loss of life, injuries, and property damage. What sources of data or information exist detailing benefits or avoided damages which may result from the use of measures to avoid propeller strike-related and CO poisoning-related casualties?

2. What vessel types should be considered for mandatory measures to reduce or eliminate propeller strike-related and CO poisoning-related casualties (e.g., all motorized vessels, motorized vessels with certain engine configurations, certain types of motorized vessels (e.g., houseboats)?

3. Some vessels have measures already installed to reduce or eliminate propeller strike-related and CO poisoning-related casualties. What data exists to estimate the percentage of recreational vessels that have measures to reduce or eliminate propeller strike-related and CO poisoning-related casualties?

4. How many and what types of recreational vessels or engines do not have measures to reduce or eliminate propeller strike-related and CO poisoning-related casualties?

5. What is the average amount of time it would take for a vessel operator to use each measure to reduce or eliminate propeller strike-related and CO poisoning-related casualties?

6. How would operators and passengers be impacted by the number of times each measure to reduce or eliminate propeller strike-related and CO poisoning-related casualties is used by the vessel operator? How should the Coast Guard consider the potential “hassle factor” associated with using each measure to reduce or eliminate propeller strike-related and CO poisoning-related casualties?

7. If a vessel or engine currently does not have any measures to reduce or eliminate propeller strike-related and CO poisoning-related casualties installed, what are the installation costs, separated out into parts and labor categories, for each such measure?

8. What is the average lifespan of each measure used to reduce or eliminate propeller strike-related and CO poisoning-related casualties?

9. What are the associated maintenance and replacement costs of each measure used to reduce or eliminate propeller strike-related and CO poisoning-related casualties?

10. What is the recommended replacement schedule of each measure used to reduce or eliminate propeller strike-related and CO poisoning-related casualties? How often are pieces of equipment replaced? What is the average cost of replacement per piece of equipment? What is the average cost of purchasing any required spare equipment?

11. How would individual measures change boater preference for different measures used to reduce or eliminate propeller strike-related and CO poisoning-related casualties? Would boaters choose more expensive systems over standard systems? If so, why?

12. What is the risk of unintended activations of each measure used to reduce or eliminate propeller strike-related and CO poisoning-related casualties? What is the current estimated rate of unintended activations? What are the impacts of unintended activations? Are there any injuries or fatalities associated with unintended activations?

13. What is the risk of each measure used to reduce or eliminate propeller strike-related and CO poisoning-related casualties (i.e., engine does not cut off when interlock device is engaged)? What is the current estimated rate of device failures? What are the impacts of device failures? Are there any injuries or fatalities associated with such device failures?

14. What data or information exists that could be used to estimate compliance rates for measures used to reduce or eliminate propeller strike-related and CO poisoning-related casualties? What data exists to estimate how compliance will change from initial phase-in to full implementation of possible mandatory measures?

15. How would the Coast Guard or other law enforcement officers enforce required measures used to reduce or eliminate propeller strike-related and CO poisoning-related casualties? What would be the challenges with such enforcement? What would be the training costs and other impacts on law enforcement agencies of implementing measures used to reduce or eliminate propeller strike-related and CO poisoning-related casualties?

16. Would any of the different measures designed to reduce or eliminate propeller strike-related and CO poisoning-related casualties have a significant economic impact on a substantial number of small entities? What sources of data or information exist detailing the economic impact on small entities which may result from the use of measures to avoid propeller strike-related and CO poisoning-related casualties?

17. What are the compliance rates with State laws intended prevent propeller strike-related casualties for recreational boaters?

18. What are the compliance rates with State laws intended to prevent CO poisoning-related casualties for recreational boaters?

19. What is the voluntary use rate of measures designed to reduce or eliminate propeller strike-related and CO poisoning-related casualties in States without such laws?

20. Five States (California, Washington, Nevada, Oregon and Pennsylvania) currently require measures to reduce or prevent propeller strike-related and CO poisoning-related casualties. What other State laws or regulations are being developed with measures to reduce or prevent propeller strike-related and CO poisoning-related casualties? Please provide any data or information from the implementation or development of these State regulations to assist the Coast Guard as it considers whether to require measures to reduce or eliminate propeller strike-related and CO poisoning-related casualties.

21. What are the costs associated with implementation of the aforementioned State laws?

B. Specific Measures To Address Propeller Strike-Related and CO Poisoning-Related Casualties

1. A possible requirement that operators of recreational vessels turn off the recreational vessel's engine while persons are in the water in close proximity to the rear of the vessel. If an operator turned off a vessel's engine, persons in the water behind the vessel would not come into contact with a spinning propeller or inhale CO emitted from a running engine. “Close proximity” would be defined as when a person is either touching any part of the vessel or is close enough to touch any part of the vessel.

2. A possible requirement to use longer boarding ladders on new recreational vessels. A longer boarding ladder than what is currently used on most recreational vessels would make it less likely that the person boarding the vessel would use the lower unit in order to reach the ladder. As discussed above, if the propeller is spinning while a person is attempting to use the lower unit as a step, the person may either step directly onto the spinning propeller or slip off the lower unit of the propulsion system and fall onto the spinning propeller resulting in severe injuries and possibly death.

3. A possible requirement to use boarding ladder or swim platform entrance gate “interlocks” on new recreational vessels. Ladder or swim platform entrance gate “interlocks” would prevent a recreational vessel engine from starting if the boarding ladder was deployed or the swim platform entrance gate was not closed, thus preventing a person using a boarding ladder or swim platform from coming into contact with a spinning propeller.

C. Specific Information Sought

When responding to the questions below, please explain the reasoning behind your comment and provide data sources and citations.

1. We seek comments on measure number 1 described above that would require operators of recreational vessels to turn off the recreational vessel's engine while persons are in the water in close proximity to the rear of the vessel. We also seek comments regarding the potential meaning of “close proximity” for this proposal and whether there should be exemptions to any such proposed requirement to turn the vessel off. Should such a proposal closely mirror the State laws discussed above?

2. Are there scenarios, other than a person in the water in close proximity to the rear of the vessel, in which turning off the vessel's engine would similarly protect recreational boaters?

3. Would there be any adverse impacts to recreational vessels, recreational boaters, or the recreational boating experience by turning off the vessel's engine when a person is in the water in close proximity to the rear of the vessel or in other similar scenarios?

4. How should the Coast Guard consider the potential “hassle factor” associated with turning off the vessel's engine when a person is in the water in close proximity to the vessel?

5. What is the average number of times per trip a recreational vessel's engine would have to be turned off because of a person in close proximity to the vessel?

6. How effective would measure number 1 be in preventing accidents related to both propeller strikes and CO poisoning?

7. How would the challenge to visually inspect at a distance whether a person is in close proximity to a vessel affect compliance with any turn-the-vessel-off requirements?

8. What data or information exists that could be used to estimate compliance rates of measure number 1? What data exists to estimate how such compliance will change during full implementation?

9. We seek comments on measure number 2 described above to require use of longer reboarding ladders. We understand that the American Boat and Yacht Council (ABYC) has a proposed revision to ABYC Standard H-41—Reboarding Means, Ladders, Handholds, Rails, and Lifelines, that would address longer ladders. Are there other consensus industry standards addressing longer ladders?

10. What percentage of new recreational vessels are sold with a swim ladder installed? What percentage of existing recreational vessels currently have a swim ladder installed? What is the typical length of a swim ladder that recreational vessel manufacturers currently install?

11. What are the costs for installation of a reboarding ladder?

12. What data or information exists that could be used to estimate compliance rates of measure number 2? What data exists to estimate how such compliance will change during full implementation?

13. We seek comments on measure number 3 described above to require use of boarding ladder or swim platform entrance gate “interlocks” on new recreational vessels. Are there any consensus industry standards addressing interlocks or any such standards in development?

14. What are the costs for installation of a boarding ladder or swim platform entrance gate interlock system? What are the costs associated with maintenance of these systems?

15. What data or information exists that could be used to estimate compliance rates of measure number 3? What data exists to estimate how such compliance will change during full implementation?

16. What is the risk of device failures or unintended activations of the boarding ladder or swim platform entrance gate interlocks? What is the current estimated rate of unintended activations? What are the impacts of unintended activations? Are there any injuries or fatalities associated with unintended activations?

17. What other measures or strategies would prevent propeller strike-related or CO poisoning-related casualties?

18. Since the enactment of the aforementioned State laws (CA, NV, OR, PA, WA), has there been a change in the count and rate of CO poisoning-related casualties in these States? Is there any quantitative data, measures, metrics, studies, or other related evidence on the effectiveness of these State laws?

19. Should any of the above-listed measures, or other measures or strategies to prevent propeller strike-related and CO poisoning-related casualties, be limited to specific recreational vessel types or lengths, or to some other criteria?

20. Would any of the above-listed specific measures have a significant economic impact on a substantial number of small entities? What sources of data or information exist detailing the economic impact on small entities which may result from the use of these specific measures to avoid propeller strike-related and CO poisoning-related casualties?

Dated: August 8, 2011.
James A. Watson,
Rear Admiral, U.S. Coast Guard, Director of Prevention Policy.

[FR Doc. 2011-21866 Filed 8-25-11; 8:45 am]

BILLING CODE 9110-04-P